DEPARTMENT OF LABOR

Employment and Training Administration

[TA-W-50,432]

Angus Consulting Management, Inc., a Wholly-Owned Subsidiary of Angus Consulting Management, Ltd., Alpharetta, Georgia; Notice of Negative Determination Regarding Application for Reconsideration

By application postmarked March 14, 2003, a petitioner requested administrative reconsideration of the Department's negative determination regarding eligibility for workers and former workers of the subject firm to apply for Trade Adjustment Assistance (TAA). The denial notice applicable to workers of Angus Consulting Management, Inc., a wholly-owned subsidiary of Angus Consulting Management, Ltd., Columbus, Ohio was signed on January 27, 2003, and published in the Federal Register on February 24, 2003 (68 FR 8619).

Pursuant to 29 CFR 90.18(c) reconsideration may be granted under the following circumstances:

(1) If it appears on the basis of facts not previously considered that the determination complained of was erroneous;

(2) If it appears that the determination complained of was based on a mistake in the determination of facts not previously considered; or

(3) If in the opinion of the Certifying Officer, a misinterpretation of facts or of the law justified reconsideration of the decision.

The TAA petition was filed on behalf of workers at Angus Consulting Management, Inc., a wholly-owned subsidiary of Angus Consulting Management, Ltd., Columbus, Ohio engaged in activities related to facility management services (operating a boiler plant). The petition was denied because the petitioning workers did not produce an article within the meaning of section 222(3) of the Act.

The petitioners imply that their layoffs were exclusively attributed to the decision of an unaffiliated firm's decision to shift production to Canada and that, consequently, the petitioning workers should be eligible for trade adjustment assistance.

The fact that service workers are dependant on the production of another facility that may be eligible for trade adjustment assistance does not automatically make the service workers eligible for TAA. Before service workers can be considered eligible for TAA, they must be in direct support of an affiliated TAA certified facility. This is not the case for the workers at Angus Consulting Management, Inc.

The petitioners allege that they should be considered eligible for TAA under a certification for workers at Lucent Technologies, Columbus Works, Columbus, Ohio (TA-W-40,256), as, prior to their employ at Angus Consulting Management, they worked at the trade certified firm.

Worker eligibility that is determined by layoffs that occurred at a firm that precedes the last place of employment is determined by the state on an individual basis to determine if the worker(s) meet the various factors under the existing certification during the relevant period.

Only in very limited instances are service workers certified for TAA, namely the worker separations must be caused by a reduced demand for their services from a parent or controlling firm or subdivision whose workers produce an article and who are currently under certification for TAA.

Conclusion

After review of the application and investigative findings, I conclude that there has been no error or misinterpretation of the law or of the facts which would justify reconsideration of the Department of Labor's prior decision. Accordingly, the application is denied.

Signed at Washington, DC, this 18th day of June, 2003.
Elliott S. Kushner,
Certifying Officer, Division of Trade Adjustment Assistance.

[FR Doc. 03-16888 Filed 7-3-03; 8:45 am]

BILLING CODE 4510-30-P